NATIONAL AERONAUTICS AND SPACE ADMINISTRATION

[Notice: (15-045)]

National Space-Based Positioning, Navigation, and Timing (PNT) Advisory Board; Charter Renewal

AGENCY: National Aeronautics and Space Administration (NASA).

ACTION: Notice of advisory committee renewal.

SUMMARY: Notice is hereby given that in accordance with the 2004 U.S. Space-Based PNT Policy and continuing and consistent Executive Branch PNT policy objectives since that time, it has been determined that the PNT Advisory Board comprised of experts from outside the United States Government continues to be necessary and in the public interest. Accordingly, NASA has renewed the charter of the National Space-Based PNT Advisory Board, effective May 8, 2015.

FOR FURTHER INFORMATION CONTACT: Mr. James J. Miller, Human Exploration and Operations Mission Directorate, NASA Headquarters, Washington, DC 20546, (202) 358-4417, fax (202) 358-4297, or jj.miller@nasa.gov.

SUPPLEMENTARY INFORMATION: The National Space-Based PNT Advisory Board provides advice on U.S. space-based PNT policy, planning, program management, and funding profiles in relation to the current state of national and international space-based PNT services. The National Space-Based PNT Advisory Board functions solely as an advisory body and complies fully with the provisions of the Federal Advisory Committee Act (FACA). Copies of the charter are filed with the General Services Administration, the appropriate Committees of the U.S. Congress, and the Library of Congress.

Patricia D. Rausch,
Advisory Committee Management Officer, National Aeronautics and Space Administration.

[FR Doc. 2015-13977 Filed 6-8-15; 8:45 am]

BILLING CODE 7510-13-P